DEPARTMENT OF HOMELAND SECURITY

Transportation Security Administration

Intent To Request Approval From OMB of One New Public Collection of Information: On-Boarding Information for New Hire Candidates

AGENCY: Transportation Security Administration, DHS.

ACTION: Notice.

SUMMARY: The Transportation Security Administration (TSA) invites public comment on a new Information Collection Request (ICR) abstracted below that we will submit to the Office of Management and Budget (OMB) for approval in compliance with the Paperwork Reduction Act. The ICR describes the nature of the information collection and its expected burden. The collection involves collecting personal information from new hire candidates for their entrance on duty (EOD) as part of the hiring process using an electronic interface known as EODonline.

DATES: Send your comments by September 16, 2008.

ADDRESSES: Comments may be mailed or delivered to Joanna Johnson, Communications Branch, Business Management Office, Operational Process and Technology, TSA-32, Transportation Security Administration, 601 South 12th Street, Arlington, VA 22202-4220.

FOR FURTHER INFORMATION CONTACT: Joanna Johnson at the above address, or by telephone (571) 227-3651 or facsimile (571) 227-3588.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose of Data Collection

Each new hire joining the Transportation Security Administration (TSA) must complete the required EOD forms as part of the hiring process. In an effort to expedite, streamline and add efficiency to the EOD process, TSA has transformed the paper-based process into an electronic one by implementing a system known as EODonline.

Applicants who have accepted a position with TSA are able to log into EODonline where they answer questions designed to gather the necessary data to generate the standard EOD forms. The standard EOD forms are either standard government forms or TSA specific forms that are required in order to be employed with TSA (e.g., Employment Eligibility Verification form, Appointment Affidavit, Declaration for Federal Employment, as well as forms that allow the candidates to choose benefits, provide military/prior federal service history declarations, and provide information that is necessary for TSA's payroll processing.)

Individuals enter their information into EODonline one time and the system populates the required EOD forms. Previously, the same information was provided by the individual multiple times during their manual completion of the paper EOD forms. The time required to complete the EODonline process is significantly less than the time needed to complete the paper EOD forms.

As stated above, the information being collected is required in order to employ individuals in the Federal government and to provide them with the benefits that are afforded Government employees. Information collected includes the new hire candidate's Social Security Number, Date of Birth, Home Address, financial institution information, as well as other personal information. Collecting this information through EODonline substantially reduces the time new candidates dedicate to this process because they are only required to enter the information once and then the system populates all forms on which the information is required.

Description of Data Collection

Applicants who accept employment offers with TSA enter their information electronically one time during the hiring process using the EODonline system. Information collected includes the new hire candidate's Social Security Number, Date of Birth, Home Address, financial institution information, as well as other personal information. Once all necessary information is collected, the candidate can view and/or print the forms in final version. Forms that do not require an original ink signature are signed electronically by the candidates. Forms requiring an original signature in ink are printed out by TSA personnel who conduct new employee orientation sessions. The hard copy forms are provided to the employees at orientation to review and sign.

The annual respondent burden hours are estimated to be 10,400, based on an estimated one hour required per respondent to provide the required information and 10,400 annual respondents. This reduces the time to complete EOD paperwork by 50%.

Respondents to this proposed information requirement are TSA (non-executive) job applicants who have accepted an offer of employment with TSA.

Use of Results

The time saved by utilizing EODonline allows employees to complete the EOD process more expeditiously and accurately and thus begin to perform their TSA duties as soon as possible. TSA will use the results of EODonline usage to measure efficiencies (i.e., cost savings, operational efficiencies, accuracy of data) gained through implementation of the automated system—both on the part of new hire candidates (as applicable) and the agency.

Issued in Arlington, Virginia, on June 14, 2008.
Kriste Jordan,
Program Manger, Business Improvements and Communications, Office of Information Technology.

[FR Doc. E8-16543 Filed 7-17-08; 8:45 am]

BILLING CODE 9110-05-P